DEPARTMENT OF HEALTH AND HUMAN SERVICES

National Institutes of Health

Interagency Autism Coordinating Committee; Notice of Meeting

The Children's Health Act of 2000 (Pub. L. 106-310), Title I, section 104, mandated the establishment of an Interagency Autism Coordinating Committee (IACC) to coordinate autism research and other efforts within the Department of Health and Human Services (DHHS). In April 2001, Secretary Tommy Thompson delegated the authority to establish the IACC to the National Institutes of Health (NIH). The National Institute of Mental Health (NIMH) at the NIH has been designated the lead for this activity.

The meeting will be open to the public, with attendance limited to space available. Individuals who plan to attend and need special assistance, such as sign language interpretation or other reasonable accommodations, should notify the contact person listed below in advance of the meeting.

Name of Committee: Interagency Autism Coordinating Committee.

Date: November 19, 2001.

Time: 9 a.m. to 4:30 p.m.

Agenda: Discussion of autism activities across Federal agencies.

Place: National Institutes of Health, 9000 Rockville Pike, Building 31, Conference Room 10 (6th floor), Bethesda, Maryland 20892,

Contact Person: Kimberly Hoagwood, Ph.D., Associate Director for Child and Adolescent Research, National Institute of Mental Health, NIH, 6001 Executive Boulevard, Room 7167, MSC 9630, Bethesda, Maryland 20892, Email: kh32p@nih.gov Telephone: (301) 443-4627.

Any member of the public interested in presenting oral comments to the committee may notify the contact person listed on this notice at least 5 days in advance of the meeting. Interested individuals and representatives of organizations may submit a letter of intent, a brief description of the organization represented, and a short description of the oral presentation. Presentations may be limited to 5 minutes; both printed and electronic copies are requested for the record. In addition, any interested person may file written comments with the committee by forwarding his/her statement to the contact person listed on this notice. The statement should include the name, address, telephone number and, when applicable, the business or professional affiliation of the interested person.

Information is also available on the NIMH homepage at <http://www.nimh/nih/gov/events/interagencyautism.cfm>.

Dated: October 30, 2001.
Yvonne Maddox,
Acting Deputy Director, National Institutes of Health.

[FR Doc. 01-27752 Filed 11-5-01; 8:45 am]

BILLING CODE 4140-01-M